NATIONAL ARCHIVES AND RECORDS ADMINISTRATION

[NARA-2015-004]

Freedom of Information Act Advisory Committee

AGENCY: National Archives and Records Administration (NARA).

ACTION: Correction; FOIA Advisory Committee Meeting Notice.

SUMMARY: The National Archives and Records Administration (NARA) published a notice in the Federal Register today, October 8, 2014, announcing a meeting of the Federal Advisory Committee. The notice was available for public inspection on October 6, 2014. However, between when the notice was submitted and published, we realized some information had been omitted. We are therefore publishing this correction notice in the Federal Register on the same day as the original notice to provide the missing information.

DATES: The meeting will be held on October 21, 2014, from 10:00 a.m. to 1:00 p.m. EDT.

ADDRESSES: National Archives and Records Administration (NARA), 700 Pennsylvania Avenue NW., Archivist's Reception Room (Room 105), Washington, DC 20408.

SUPPLEMENTARY INFORMATION: This meeting will be open to the public. However, due to space limitations and access procedures, NARA requests that individuals planning to attend register for the event via Eventbrite at http://www.eventbrite.com/e/freedom-of-information-act-foia-advisory-committee-meeting-registration-13398355843. Eventbrite registration will go live on Tuesday, October 7, 2014 at 10:00 a.m. EDT. Members of the media who wish to register and those who are unable to register via Eventbrite should contact Christa Lemelin at the phone number, mailing address, or email address listed below. NARA's Office of Government Information Services will provide an agenda and additional instructions for participation on the FOIA Advisory Committee Web page at https://ogis.archives.gov/foia-advisory-committee/meetings.htm.

This notice is being issued 13 calendar days rather than 15 calendar days in advance of the October 21, 2014, FOIA Advisory Committee meeting due to technical difficulties in publishing the notice. Public inspection of the meeting notice occurred 15 calendar days in advance of the proposed meeting, and notice of the meeting was also posted publicly on the OGIS Web site at https://ogis.archives.gov/foia-advisory-committee/meetings.htm, allowing for 15 days' notice in those ways.

FOR FURTHER INFORMATION CONTACT: Christa Lemelin, Designated Federal Officer for this committee, at National Archives and Records Administration, Office of Government Information Services, 8601 Adelphi Road—OGIS, College Park, MD 20740-6001, by telephone at 202-741-5773; or by email at Christa.Lemelin@nara.gov.

Dated: October 6, 2014.
Christa Lemelin,
Designated Federal Officer, FOIA Advisory Committee.

[FR Doc. 2014-24155 Filed 10-6-14; 4:15 pm]

BILLING CODE 7515-01-P